PENSION BENEFIT GUARANTY CORPORATION

Proposed Submission of Information Collection for OMB Review; Comment Request; Annual Financial and Actuarial Information Reporting

AGENCY: Pension Benefit Guaranty Corporation.

ACTION: Notice; correction.

SUMMARY: The Pension Benefit Guaranty Corporation (PBGC) published a document in the Federal Register on March 2, 2015, concerning a proposed submission of an information collection on Annual Financial and Actuarial Information Reporting for OMB review. The document contained an inadvertent error in the subject heading.

FOR FURTHER INFORMATION CONTACT: Grace Kraemer, Attorney, or Catherine B. Klion, Assistant General Counsel, Office of the General Counsel, Pension Benefit Guaranty Corporation, 1200 K Street NW., Washington, DC 20005-4026; 202-326-4024. (TTY and TDD users may call the Federal relay service toll-free at 1-800-877-8339 and ask to be connected to 202-326-4024.)

Correction

In the Federal Register of March 2, 2015, in 80 FR 11240, correct the subject heading to read:

Proposed Submission of Information Collection for OMB Review; Comment Request; Annual Financial and Actuarial Information Reporting

Issued in Washington, DC, this 2nd day of March, 2015.
Catherine B. Klion,
Assistant General Counsel, Pension Benefit Guaranty Corporation.

[FR Doc. 2015-05126 Filed 3-5-15; 8:45 am]

BILLING CODE 7709-02-P